DEPARTMENT OF TRANSPORTATION

Federal Aviation Administration

14 CFR Part 39

[Docket No. FAA-2012-1052; Directorate Identifier 2012-CE-014-AD]

RIN 2120-AA64

Airworthiness Directives; Cessna Aircraft Company Airplanes

AGENCY: Federal Aviation Administration (FAA), DOT.

ACTION: Supplemental notice of proposed rulemaking (NPRM); reopening of comment period.

SUMMARY: We are revising an earlier proposed airworthiness directive (AD) for certain Cessna Aircraft Company (Cessna) Models 172R, 172S, 182S, 182T, T182T, 206H, and T206H airplanes. That NPRM proposed to supersede an existing AD that currently requires an inspection of the engine oil pressure switch and, if applicable, replacement with an improved engine oil pressure switch. Since we issued the existing AD, we have received new reports of internal failure of the improved engine oil pressure switch, which could result in complete loss of engine oil with consequent partial or complete loss of engine power or fire. The NPRM proposed to increase the applicability of the AD and place a life-limit of 3,000 hours time-in-service (TIS) on the engine oil pressure switch, requiring replacement when the engine oil pressure switch reaches its life limit. This action revises that NPRM by changing the applicable serial numbers ranges. Since these actions impose an additional burden over that proposed in the NPRM, we are reopening the comment period to allow the public the chance to comment on these proposed changes. We are proposing this supplemental NPRM to correct the unsafe condition on these products.

DATES: We must receive comments on this supplemental NPRM by April 22, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Cessna Aircraft Company, Product Support, P.O. Box 7706, Wichita, Kansas 67277; telephone: (316) 517-5800; fax (316) 942-9006; Internet: www.cessna.com/customer-service/technical-publications.html. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Jeff Janusz, Sr. Propulsion Engineer, Wichita Aircraft Certification Office, FAA, 1801 Airport Road, Wichita, KS 67209; phone: (316) 946-4148; fax: (316) 946-4107; email: jeff.janusz@faa.gov.

SUPPLEMENTARY INFORMATION:

Comments Invited

We invite you to send any written relevant data, views, or arguments about this proposed AD. Send your comments to an address listed under the ADDRESSES section. Include “Docket No. FAA-2012-1052; Directorate Identifier 2012-CE-014-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to include an AD that would apply to certain Cessna Aircraft Company Models 172R, 172S, 182S, 182T, T182T, 206H, and T206H airplanes. That NPRM published in the Federal Register on October 2, 2012 (77 FR 60062). That NPRM proposed to supersede an existing AD that currently requires an inspection of the engine oil pressure switch and, if applicable, replacement with an improved engine oil pressure switch. Since we issued that AD, we received new reports of internal failure of the improved engine oil pressure switch, which could result in complete loss of engine oil with consequent partial or complete loss of engine power or fire. The NPRM proposed to increase the applicability of the existing AD and place a life-limit of 3,000 hours time-in-service (TIS) on the engine oil pressure switch, requiring replacement when the engine oil pressure switch reaches its life limit.

Actions Since Previous NPRM Was Issued

Since we issued the previous NPRM (77 FR 60062, October 2, 2012), the serial number applicability has been changed for Cessna Aircraft Company Models 172R, 172S, 182T, T182T, and 206H airplanes.

Comments

We gave the public the opportunity to comment on the previous NPRM. The following presents the comments received on the NPRM and the FAA's response to each comment.

Stated Maintenance Activity

Robert A. Hecht stated that he replaced the oil pressure switch on his 2000 Cessna 206H at 1,006 hours TIS because of light oil leaking from the case.

The commenter is making a pronouncement about maintenance activity on his airplane and offered no further explanation as to what his intent was.

Request for Replacement at Next Inspection

Stuart B. Harnden stated he believes the replacement of the oil switch should be mandatory at the next inspection, regardless of hours or condition of the oil pressure switch, since it cannot be predicted when a switch may fail.

We do not agree because we would expect to see oil pressure switches removed from service on condition anyway at whatever TIS they become unairworthy. The goal of the AD action is to remove all switches with more than 3,000 hours TIS, and, if they are removed earlier for condition, that is an acceptable maintenance practice and does not affect this rulemaking activity.

FAA's Determination

We are proposing this supplemental NPRM because we evaluated all the relevant information and determined the unsafe condition described previously is likely to exist or develop in other products of the same type design. Certain changes described above expand the scope of the original NPRM. As a result, we have determined that it is necessary to reopen the comment period to provide additional opportunity for the public to comment on this supplemental NPRM.

Proposed Requirements of the Supplemental NPRM

This proposed AD would increase the applicability statement of the existing AD, require an inspection of the engine oil pressure switch and place a life limit of 3,000 hours TIS on the engine oil pressure switch. We are proposing this AD to correct the unsafe condition on these products.

Costs of Compliance

We estimate that this proposed AD affects 6,156 airplanes of U.S. registry.

We estimate the following costs to comply with this proposed AD:

Estimated Costs
Action | Labor cost | Parts cost | Cost per product | Cost on U.S. operators
Inspection of the airplane or engine records | .5 work-hour × $85 per hour = $42.50 | Not applicable | $42.50 | $261,630
Inspection of the engine oil pressure switch installation | .5 work-hour × $85 per hour = $42.50 | Not applicable | 42.50 | 261,630
Removal and replacement of the engine oil pressure switch and logbook entry | .5 work-hour × $85 per hour = $42.50 | $54 | 96.50 | 594,054

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2000-04-01, Amendment 39-11583 (65 FR 8649, February 22, 2000), and adding the following new AD:

Cessna Aircraft Company: Docket No. FAA-2012-1052; Directorate Identifier 2012-CE-014-AD.

(a) Comments Due Date

We must receive comments by April 22, 2013.

(b) Affected ADs

This AD supersedes AD 2000-04-01, Amendment 39-11583 (65 FR 8649, February 22, 2000).

(c) Applicability

This AD applies to Cessna Aircraft Company Models 172R, serial numbers (S/N) 17280001 through 17281618; 172S, S/N 172S8001 through 172S11256; 182S, S/N 18280001 through 18280944; 182T, S/N 18280945 through 18282357; T182T, S/N T18208001 through T18209089; 206H, S/N 20608001 through 20608349; and T206H, S/N T20608001 through T20609079; certificated in any category.

(d) Subject

Joint Aircraft System Component (JASC)/Air Transport Association (ATA) of America Code 7931, Engine Oil Pressure.

(e) Unsafe Condition

This AD was prompted by new reports of internal failure of the improved engine oil pressure switch, which could result in complete loss of engine oil with consequent partial or complete loss of engine power or fire. We are issuing this AD to increase the applicability of the AD and place a life-limit of 3,000 hours time-in-service (TIS) on the engine oil pressure switch, requiring replacement when the engine oil pressure switch reaches its life limit.

(f) Compliance

Comply with this AD within the compliance times specified, following Cessna Service Bulletin SB 07-79-01, dated January 29, 2007, unless already done.

(g) Actions

(1) At the next scheduled oil change, annual inspection, or 100-hour time-in-service (TIS) inspection after the effective date of this AD, whichever occurs later, but in no case later than 12 months after the effective date of this AD, inspect the engine oil pressure switch to determine if it is part-number (P/N) 77041 or P/N 83278.

(2) If after the inspection required in paragraph (g)(1) of this AD, P/N 77041 engine oil pressure switch is installed, before further flight, replace the engine oil pressure switch with a new, zero time, P/N 83278 engine oil pressure switch. Record the engine oil pressure switch part number, date, and airplane hours TIS in the airplane log book. The recorded engine oil pressure switch TIS will be used as the benchmark for calculation of the 3,000 hour TIS limit on the engine oil pressure switch.

(3) After the effective date of this AD, do not install a P/N 77041 engine oil pressure switch on any affected airplane.

(4) If after the inspection required in paragraph (g)(1) of this AD it is confirmed that P/N 83278 engine oil pressure switch is installed, through inspection of the airplane or engine logbooks determine the TIS of the engine oil pressure switch.

(5) If after the inspection required in paragraph (g)(1) of this AD you cannot positively identify the hours TIS on the P/N 83278 engine oil pressure switch, before further flight, replace the engine oil pressure switch with a new, zero time, P/N 83278 engine oil pressure switch. Record the engine oil pressure switch part number, date, and airplane hours in the airplane log book. The recorded engine oil pressure switch TIS will be used as the benchmark for calculation of the 3,000 hour TIS limit on the engine oil pressure switch.

(6) When the engine oil pressure switch is at or greater than 3,000 hours TIS or within 50 hours TIS after the effective date of this AD, whichever occurs later, and repetitively thereafter at intervals not to exceed 3,000 hours TIS on the P/N 83278 engine oil pressure switch, replace it with a new, zero time, P/N 83278 engine oil pressure switch. Record the engine oil pressure switch part number, date, and airplane hours in the airplane log book. The recorded engine oil pressure switch TIS will be used as the benchmark for calculation of the 3,000 hour TIS limit on the engine oil pressure switch.

(h) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(i) Related Information

(1) For more information about this AD, contact Jeff Janusz, Sr. Propulsion Engineer, Wichita ACO, FAA, 1801 Airport Road, Wichita, KS 67209 phone: (316) 946-4148; fax: (316) 946-4107; email: jeff.janusz@faa.gov.

(2) For service information identified in this AD, contact Cessna Aircraft Company, Product Support, P.O. Box 7706, Wichita, Kansas 67277; telephone: (316) 517-5800; fax (316) 942-9006; Internet: www.cessna.com/customer-service/technical-publications.html. You may review copies of the referenced service information at the FAA, Small Airplane Directorate, 901 Locust, Kansas City, Missouri 64106. For information on the availability of this material at the FAA, call (816) 329-4148.

Issued in Kansas City, Missouri, on February 27, 2013.
Earl Lawrence,
Manager, Small Airplane Directorate, Aircraft Certification Service.

[FR Doc. 2013-05287 Filed 3-6-13; 8:45 am]

BILLING CODE 4910-13-P